DEPARTMENT OF TRANSPORTATION

Federal Aviation Administration

14 CFR Part 39

[Docket No. FAA-2013-1090; Directorate Identifier 2013-SW-017-AD]

RIN 2120-AA64

Airworthiness Directives; Eurocopter France Helicopters

AGENCY: Federal Aviation Administration (FAA), DOT.

ACTION: Notice of proposed rulemaking (NPRM).

SUMMARY: We propose to adopt a new airworthiness directive (AD) for certain Eurocopter France (Eurocopter) Model EC120B and EC130B4 helicopters. This proposed AD would require replacing parts of the sliding door star support attachment assembly, depending on the outcome of required inspections. This proposed AD is prompted by a report that passengers in a Eurocopter helicopter were forced to exit through the pilot door after landing because they could not open the sliding door from the inside. The proposed actions are intended to prevent failure of the sliding door star support attachment, which could inhibit operation of a sliding door from inside, delaying the evacuation of passengers during an emergency.

DATES: We must receive comments on this proposed AD by March 3, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2013-0093, dated April 15, 2013, and corrected on April 17, 2013. EASA issued AD No. 2013-0093 to correct an unsafe condition for Eurocopter Model EC120B and EC130B4 helicopters after a case was reported where passengers could not open a helicopter's sliding door after landing. An investigation revealed a failure of the sliding door star axle support, EASA states.

“This condition, if not corrected, could delay the evacuation from the helicopter in case of emergency, possibly resulting in injury to the occupants,” according to EASA. As a result, EASA AD No. 2013-0093 requires inspecting the upper and lower locking pin control rod end fittings to determine if they are twisted or broken and replacing the end fittings if they are twisted or broken. If the end fittings are not twisted or broken, the EASA AD requires performing a dye penetrant inspection of the star support pin and then reinforcing the sliding door star support with carbon fabric plies soaked with adhesive.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter issued Alert Service Bulletin (ASB) No. EC120-52A014 for Model EC120B helicopters and ASB No. EC130-52A009 for Model EC130B4 helicopters, both Revision 1, and both dated January 25, 2013. The ASBs report that the star support pin ruptured on the kinematics of the sliding door locking system. The rupture prevents sliding doors from operating, the ASBs report. The ASBs call for visual and dye penetrant inspections of sections of the sliding door attachment assembly and reinforcement of the sliding door star support.

Proposed AD Requirements

This proposed AD would require, within 165 hours time-in-service, visually inspecting the upper and lower locking pin control rod end fittings, and replacing the control end fitting before further flight if it is bent, twisted, or broken. This proposed AD would also require cleaning and dye penetrant inspecting the star support pin for a crack, and replacing the star support pin before further flight if there is a crack. Lastly, this proposed AD would require reinforcing the sliding door star support stringer by installing three carbon fabric plies.

Costs of Compliance

We estimate that this proposed AD would affect 284 helicopters of U.S. Registry and that labor costs average $85 per work-hour. Based on these estimates, we would expect the following costs:

• Visually inspecting the upper and lower locking pin control rod end fittings would require 1 work-hour and a minimal amount for consumable materials for a cost of $85 per helicopter, or $24,140 for the U.S. fleet.

• Replacing the upper and lower locking pin control rod end fittings with airworthy fittings would require 5 work-hours for a labor cost of $425. Parts would cost $242 for a cost of $667 per helicopter.

• Dye penetrant inspecting the star support pin for a crack would require 2 work-hours and no parts for a cost of $170 per helicopter.

• Replacing the star support pin would require 5 work-hours. Parts would cost $200 for a total cost of $625 per helicopter.

• Installing three carbon fabric plies to reinforce the sliding door star support would require 5 work-hours. Parts would cost $200 for a total cost of $625 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2013-1090; Directorate Identifier 2013-SW-017-AD.

(a) Applicability

This AD applies to the following Eurocopter France (Eurocopter) helicopters, certificated in any category, except those helicopters with modification 07 3796 or 07 2921 installed:

(a) Model EC120B helicopters, serial numbers up to and including 1367, with a sliding door, Part Number (P/N) C526A2370101, installed; and

(b) Model EC130B4 helicopters with a sliding door, P/N C526S1101051, installed.

(b) Unsafe Condition

This AD defines the unsafe condition as a failure of the sliding door star axle support. This condition could prevent operation of a sliding door from inside, which could delay evacuation of passengers during an emergency.

(c) Comments Due Date

We must receive comments by March 3, 2014.

(d) Compliance

You are responsible for performing each action required by this AD within the specified compliance time unless it has already been accomplished prior to that time.

(e) Required Actions

Within 165 hours time-in-service:

(1) Visually inspect each upper and lower locking pin control rod end fitting (control end fitting) for a bend, twist, or breakage. If a control end fitting is bent, twisted, or broken, before further flight, replace the control end fitting with an airworthy control end fitting.

(2) Clean and dye penetrant inspect the star support pin for a crack in the areas identified as Zone X and Zone Y in Figure 3 of Eurocopter Alert Service Bulletin (ASB) No. EC120-52A014 or ASB No. EC130-52A009, both Revision 1, and both dated January 25, 2013, as applicable to your model helicopter. If there is a crack in the star support pin, before further flight, replace the star support pin with an airworthy star support pin.

(3) Reinforce the sliding door star support stringer by installing three carbon fabric plies by following the Accomplishment Instructions, paragraph 3.B.2.d, of ASB No. EC120-52A014 or ASB No. EC130-52A009, as applicable to your model helicopter, except this AD does not require you to comply with paragraph 3.C.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD 2013-0093, dated April 15, 2013. You may view the EASA AD in Docket No. FAA-2013-1090 on the Internet at http://www.regulations.gov.

(h) Subject

Joint Aircraft Service Component (JASC) Code: 5220, Emergency Exits.

Issued in Fort Worth, Texas, on December 18, 2013.
Lance T. Gant,
Acting Directorate Manager, Rotorcraft Directorate,Aircraft Certification Service.

[FR Doc. 2013-31298 Filed 12-31-13; 8:45 am]

BILLING CODE 4910-13-P